GENERAL SERVICES ADMINISTRATION

[GSA Bulletin FPMR D-259]

Federal Buildings and Space

This notice contains GSA Bulletin FPMR D-259 which announces the designation of a park on Federal grounds. The text of the bulletin follows:

To: Heads of Federal Agencies

Subject: Designation of Federal Building Grounds

1. Purpose. This bulletin announces the designation of a park on Federal grounds.

2. Expiration date. This bulletin expires May 11, 2002. However, the Federal building grounds designation announced by this bulletin will remain in effect until canceled or superseded.

3. Designation. The grounds directly in front of the John M. Shaw United States Courthouse in Lafayette, Louisiana, to be used as a park, are designated as follows: Richard J. Putnam Park, on the grounds of the John M. Shaw United States Courthouse, 800 Lafayette Street, Lafayette, LA 70501.

Dated: December 19, 2001.
Stephen A. Perry,
Administrator of General Services.

[FR Doc. 01-31883 Filed 12-27-01; 8:45 am]

BILLING CODE 6820-24-M